NATIONAL AERONAUTICS AND SPACE ADMINISTRATION

[Notice (03-058)]

Government-Owned Inventions, Available for Licensing

ACTION: Notice of availability of inventions for licensing.

SUMMARY: The inventions listed below are assigned to the National Aeronautics and Space Administration, have been filed in the United States Patent and Trademark Office, and are available for licensing.

DATES: June 3, 2003.

FOR FURTHER INFORMATION CONTACT: Edward Fein, Patent Counsel, Johnson Space Center, Mail Code HA, Houston, TX 77058-3696, telephone (281) 483-4871; fax (281) 244-8452.

NASA Case No. MSC-23444-1: Motion Sickness Treatment Apparatus And Method;

NASA Case No. MSC-23449-1: System For The Diagnosis And Monitoring Of Coronary Artery Disease, Acute Coronary Syndromes, Cardiomyopathy And Other Cardiac Conditions;

NASA Case No. MSC-23472-1: Heat Treatment Of Friction Stir Welded 7050 Aluminum Plate.

Dated: May 28, 2003.
Robert M. Stephens,
Deputy General Counsel.

[FR Doc. 03-13909 Filed 6-2-03; 8:45 am]

BILLING CODE 7510-01-P